DEPARTMENT OF HEALTH AND HUMAN SERVICES

Centers for Disease Control and Prevention

Disease, Disability, and Injury Prevention and Control Special Emphasis Panel: Monitoring Hospitalization and Outpatient Visits for Pneumonia and Other Non-Invasive Pneumonococcal Diseases by Using National Databases, Potential Extramural Project 2008-R-17

Correction: This notice was published in the Federal Register on April 18, 2008, Volume 73, Number 76, page 21136. The aforementioned meeting has been rescheduled to the following:

Time and Date: 1 p.m.-3 p.m., June 17, 2008 (Closed).

Contact Person for More Information: Linda Shelton, Program Specialist, Coordinating Center for Health and Information Service, Office of the Director, CDC, 1600 Clifton Road, NE., Mailstop E21, Atlanta, GA 30333. Telephone (404) 498-1194.

The Director, Management Analysis and Services Office, has been delegated the authority to sign Federal Register notices pertaining to announcements of meetings and other committee management activities, for both CDC and the Agency for Toxic Substances and Disease Registry.

Dated: June 6, 2008.
Elaine L. Baker,
Director, Management Analysis and Services Office, Centers for Disease Control and Prevention.

[FR Doc. E8-13184 Filed 6-11-08; 8:45 am]

BILLING CODE 4163-18-P